DEPARTMENT OF COMMERCE

International Trade Administration

[A-351-852, A-560-832, A-580-896, A-535-905, and A-583-862]

Polyethylene Terephthalate Resin From Brazil, Indonesia, the Republic of Korea, Pakistan, and Taiwan: Postponement of Preliminary Determinations of Antidumping Duty Investigations

AGENCY: Enforcement and Compliance, International Trade Administration, Department of Commerce.

DATES: Applicable February 22, 2018.

FOR FURTHER INFORMATION CONTACT: Kathryn Wallace (Brazil) at (202) 482-6251, Caitlin Monks (Indonesia) at (202) 482-2670, Sean Carey (Republic of Korea) at (202) 482-3964, Lauren Caserta (Pakistan) at (202) 482-4737, Alex Cipolla at (202) 482-4956 (Taiwan), AD/CVD Operations, Enforcement and Compliance, International Trade Administration, U.S. Department of Commerce, 1401 Constitution Avenue NW, Washington, DC 20230.

SUPPLEMENTARY INFORMATION:

Background

On October 23, 2017, the Department of Commerce (Commerce) initiated antidumping duty (AD) investigations on polyethylene terephthalate resin from Brazil, Indonesia, the Republic of Korea, Pakistan, and Taiwan.¹ Commerce exercised its discretion to toll all deadlines affected by the closure of the Federal Government from January 20 through 22, 2018. If the new deadline falls on a non-business day, in accordance with Commerce's practice, the deadline will become the next business day. Accordingly, the current deadline for the preliminary determinations of these investigations is March 8, 2018.

¹ See Polyethylene Terephthalate Resin from Brazil, Indonesia, the Republic of Korea, Pakistan, and Taiwan: Initiation of Less-Than-Fair-Value Investigations, 82 FR 48977 (October 23, 2017).

Postponement of Preliminary Determinations

Section 733(b)(1)(A) of the Tariff Act of 1930, as amended (the Act), requires Commerce to issue the preliminary determination in an AD investigation within 140 days after the date on which Commerce initiated the investigation. However, section 733(c)(1)(A) of the Act and 19 CFR 351.205(e) allow Commerce to postpone the preliminary determination at the request of the petitioner.

On January 29, 2018, the petitioners ² submitted a timely request pursuant to 19 CFR 351.205(e) to postpone the preliminary determinations.³ They noted that Commerce is still gathering data and questionnaire responses from the foreign producers in these investigations and additional time is necessary for Commerce and interested parties to fully and properly analyze all questionnaire response.⁴ For these reasons, and because there are no compelling reasons to deny the request, Commerce, in accordance with section 733(c)(1)(A) of the Act and 19 CFR 351.205(e), is postponing the deadline for the preliminary determinations to no later than 190 days after the day on which the investigations were initiated. Accordingly, Commerce will issue the preliminary determinations no later than April 27, 2018, a date that has been adjusted for the period of the closure of the Federal Government. In accordance with section 735(a)(1) of the Act and 19 CFR 351.210(b)(1), the deadline for the final determinations of these investigations will continue to be 75 days after the date of the preliminary determinations, unless postponed.

² The petitioners for Brazil, Pakistan, Korea, and Taiwan are DAK Americas LLC, Indorama Ventures USA Inc., M&G Polymers USA LLC, and Nan Ya Plastics Corporation America. The petitioners for Indonesia are DAK Americas LLC, M&G Polymers USA LLC, and Nan Ya Plastics Corporation America.

³ See letter from the petitioners, “Polyethylene Terephthalate Resin from Brazil, Indonesia, the Republic of Korea, Pakistan and Taiwan—Petitioners' Request to Postpone the Preliminary Determinations,” dated January 29, 2018.

⁴ Id. At 2.

This notice is issued and published pursuant to section 733(c)(2) of the Act and 19 CFR 351.205(f)(1).

Dated: February 16, 2018.
Christian Marsh,
Deputy Assistant Secretary for Enforcement and Compliance.

[FR Doc. 2018-03670 Filed 2-21-18; 8:45 am]

BILLING CODE 3510-DS-P